DEPARTMENT OF JUSTICE

Notice of Lodging of Consent Decree; Under the Comprehensive Environmental Response, Compensation and Liability Act

Under 28 CFR 50.7, notice is hereby given that on October 15, 2008, a proposed consent decree with defendant Alcoa, Inc., was lodged in United States v. Alcoa, Inc., Civil Action No. 08-415, in the United States District Court for the Southern District of Iowa.

The United States sought, pursuant to sections 106 and 107 of the Comprehensive Environmental Response, Compensation and Liability Act (“CERCLA”), 42 U.S.C. 9606 & 9607, to recover costs incurred in response to releases of hazardous substances at the Alcoa-Davenport Works and Mississippi River Pool 15 Superfund Sites in Davenport, Iowa (“the Sites”), to recover natural resource damages at the Sites, and to require defendant Alcoa to implement EPA's selected remedy for the Sites.

The proposed consent decree will resolve the United States' claims against Alcoa. Under the proposed consent decree, Alcoa will perform the remedy for the Sites, and pay $752,345.99 to the Superfund in payment of the United States' unreimbursed Site response costs. Alcoa will also pay $198,235 to the United States for natural resource damages. In return, the United States will grant the defendants a covenant not to sue under CERCLA with respect to the Site.

The Department of Justice will receive for a period of thirty (30) days from the date of this publication comments relating to the proposed consent decree. Comments should be addressed to the Assistant Attorney General, Environment and Natural Resources Division, P.O. Box 7611, Ben Franklin Station, Washington, DC 20044-7611, and should refer to United States v. Alcoa, Inc., D.J. Ref. 90-11-2-08358. Public comments may be submitted by e-mail to the following e-mail address: pubcomment-ees.enrd@usdoj.gov.

The proposed consent decree may be examined at the office of the United States Attorney, U.S. Courthouse Annex, Suite # 286, 110 East Court Avenue, Des Moines, Iowa 50309-2053, and may be examined on the following Department of Justice Web site: http://www.usdoj.gov/enrd/Consent_Decrees.html. A copy may also be obtained upon request from the Consent Decree Library, Environmental Enforcement Section, U.S. Department of Justice, P. O. Box 7611, Washington, DC 20044-7611, or by faxing a request to Tonia Fleetwood, fax no. (202) 514-0097, phone confirmation number (202) 514-1547. In requesting a copy please refer to the referenced case and enclose a check in the amount of $11.75 (25 cents per page reproduction costs), payable to the U.S. Treasury.

Robert E. Maher, Jr.,
Assistant Section Chief, Environmental Enforcement Section, Environment and Natural Resources Division.

[FR Doc. E8-24980 Filed 10-20-08; 8:45 am]

BILLING CODE 4410-15-P